INTERNATIONAL TRADE COMMISSION

[Inv. No. 337-TA-465]

Certain Semiconductor Timing Signal Generator Devices, Components Thereof, and Products Containing Same; Notice of Commission Decision Not To Review an Initial Determination Terminating the Investigation on the Basis of a Settlement Agreement

AGENCY: International Trade Commission.

ACTION: Notice.

SUMMARY: Notice is hereby given that the U.S. International Trade Commission has determined not to review the presiding administrative law judge's (“ALJ's”) initial determination (“ID”) terminating the above-captioned investigation in its entirety on the basis of a settlement agreement.

FOR FURTHER INFORMATION CONTACT: Clara Kuehn, Esq., Office of the General Counsel, U.S. International Trade Commission, 500 E Street, SW., Washington, DC 20436, telephone (202) 205-3012. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://dockets.usitc.gov/eol/public. Hearing-impaired persons are advised that information on this matter can be obtained by contacting the Commission's TDD terminal on 202-205-1810.

SUPPLEMENTARY INFORMATION: On August 23, 2001, the Commission instituted Inv. No. 337-TA-463 based on a complaint filed by Cypress Semiconductor Corp. (“Cypress”) against Integrated Circuit Systems, Inc. (“ICS”) and Pericom Semiconductor Corp. (“Pericom”) alleging violations of section 337 of the Tariff Act of 1930 in the importation into the United States, the sale for importation, and the sale after importation of certain power saving integrated circuits and products containing same, by reason of infringement of certain claims of U.S. Letters Patent 5,949,261. 66 FR 44375 (2001). On December 7, 2001, the Commission instituted the above-captioned investigation based on a complaint filed by ICS against Cypress alleging violations of section 337 in the importation into the U.S., sale for importation, and sale after importation of certain semiconductor timing signal generator devices, components thereof, and products containing same, by reason of infringement of claim 9 of U.S. Letters Patent 5,036,216 and claim 6 of U.S. Letters Patent 5,703,537 (the '537 patent). 66 FR 63559 (2001). On January 22, 2002, the presiding administrative law judge (“ALJ”) consolidated the two investigations (Order No. 3) under the above caption. On February 14, 2002, the ALJ issued an ID (Order No. 6) terminating the investigation as to respondent Pericom, and on April 16, 2002, the ALJ issued an ID (Order No. 8) terminating the investigation as to the '537 patent. Those IDs were not reviewed by the Commission.On August 9, 2002, Cypress and ICS moved to terminate the investigation in its entirety on the basis of a settlement agreement. On August 16, 2002, the Commission investigative attorney filed a response supporting the joint motion.

On August 22, 2002, the ALJ issued an ID (Order No. 31) granting the joint motion to terminate. No petitions for review of the ID were filed. The authority for the Commission's determination is contained in section 337 of the Tariff Act of 1930, as amended (19 U.S.C. 1337), and in section 210.42 of the Commission's rules of practice and procedure (19 CFR 210.42).

Issued: September 13, 2002.
By order of the Commission.
Marilyn R. Abbott,
Secretary to the Commission.

[FR Doc. 02-23768 Filed 9-18-02; 8:45 am]

BILLING CODE 7020-02-P